DEPARTMENT OF HOMELAND SECURITY

U.S. Citizenship and Immigration Services

[CIS No. 2435-07; DHS Docket No. USCIS-2007-0061]

RIN 1615-ZA66

Domestic Violence Guidance Pamphlet for K Nonimmigrants

AGENCY: U.S. Citizenship and Immigration Services, DHS.

ACTION: Notice.

SUMMARY: U.S. Citizenship and Immigration Services is soliciting comments from the public on a pamphlet discussing the rights and resources available to individuals coming to the United States under the K nonimmigrant classification as the fiancé(e) or the spouse of a U.S. citizen. The pamphlet is required by the International Marriage Broker Regulation Act of 2005 and is intended to help such aliens understand the immigration process and prevent domestic violence.

DATES: Written comments must be submitted on or before September 19, 2008.

ADDRESSES: You may submit comments, identified by DHS Docket No. USCIS-2007-0061, by one of the following methods:

• Federal eRulemaking Po rtal: http://www.regulations.gov. Follow the instructions for submitting comments.

• Mail: Chief, Regulatory Management Division, U.S. Citizenship and Immigration Services, Department of Homeland Security, 111 Massachusetts Avenue, NW., Suite 3008, Washington, DC 20529. To ensure proper handling, please reference DHS Docket No. USCIS-2007-0061 on your correspondence. This mailing address may be used for paper, disk, or CD-ROM submissions.

• Hand Delivery/Courier: Regulatory Management Division, U.S. Citizenship and Immigration Services, Department of Homeland Security, 111 Massachusetts Avenue, NW., Suite 3008, Washington, DC 20529. Contact Telephone Number (202) 272-8377.

FOR FURTHER INFORMATION CONTACT: Andrew Perry, Family and Victim Protection Division, Office of Policy and Strategy, U.S. Citizenship and Immigration Services, Department of Homeland Security, 20 Massachusetts Avenue, NW., Suite 2304, Washington, DC 20529. Contact Telephone Number (202) 272-1470.

SUPPLEMENTARY INFORMATION:

I. Background

Citing the fact that K nonimmigrants may face a higher risk of domestic violence in relationships arranged by International Marriage Brokers (IMBs), Congress enacted the International Marriage Broker Regulation Act of 2005 (IMBRA), subtitle D, Public Law No. 109-162, 119 Stat. 3066-3077 (2006). A K nonimmigrant is an alien who:

(1) Is the fiancé(e) of a U.S. citizen (USC) who has petitioned for the alien to enter the United States solely to conclude a valid marriage with him or her (referred to as “K-1” nonimmigrants);

(2) Is married to a U.S.C. who has petitioned the alien for lawful permanent residence and is seeking to enter the United States to await approval of the petition and availability of an immigrant visa (referred to as “K-3” nonimmigrants); or

(3) Is the minor child of the alien accompanying or following to join the alien (referred to as “K-2” or “K-4” nonimmigrants). Immigration and Nationality Act (INA) sec. 1101(a)(15)(K); 8 U.S.C. 214.1(a)(2).

Pursuant to the requirements established by IMBRA, the Secretary of Homeland Security, in consultation with the Attorney General and the Secretary of State, must develop and distribute to K nonimmigrant visa applicants an information pamphlet explaining the legal rights and resources for immigrant victims of domestic violence. 8 U.S.C. 1375a(a)(1). The pamphlet must include information on the following eight topics:

(1) The K nonimmigrant visa application process and the marriage-based immigration process;

(2) The illegality of domestic violence, sexual assault, and child abuse in the United States and the dynamics of domestic violence;

(3) Domestic violence and sexual assault services in the United States, including the National Domestic Violence Hotline and the National Sexual Hotline;

(4) The legal rights of immigrant victims of abuse and other crimes in immigration, criminal justice, family law, and other matters, including access to protection orders;

(5) The obligations of parents to provide child support;

(6) Marriage fraud under United States immigration laws and the penalties for committing such fraud;

(7) A warning concerning the potential use of K nonimmigrant visas by U.S. citizens who have a history of committing domestic violence, sexual assault, child abuse, or other crimes and an explanation that such acts may not have resulted in a criminal record for such a citizen; and

(8) Notification of the requirement under IMBRA that international marriage brokers provide their foreign national clients with background information gathered on U.S. citizen clients from searches of Federal and state sex offender public registries and collected from U.S. citizen clients regarding their marital history, and domestic violence or other violent criminal history. But that such information may not be complete or accurate because the U.S. citizen clients may not have a criminal record or may not have truthfully reported their marital or criminal record. 8 U.S.C. 1375a(a)(2).

The pamphlet must be translated by the Secretary of State into Russian, Spanish, Tagalog, Vietnamese, Chinese, Ukrainian, Thai, Korean, Polish, Japanese, French, Arabic, Portuguese, Hindi, and such other languages as the Secretary of State, in the Secretary's discretion, may specify. 8 U.S.C. 1375a(a)(4)(A). The Secretary of Homeland Security, in consultation with the Attorney General and the Secretary of State, must determine every 2 years at least 14 languages into which the information pamphlet is translated based on the languages spoken by the greatest concentrations of K nonimmigrant visa applicants. 8 U.S.C. 1375a(a)(4)(B).

The law includes specific requirements for distribution of the information pamphlet to aliens seeking K nonimmigrant status. The Secretary of State must mail the information pamphlet to the alien seeking K nonimmigrant status along with the instruction packet for K nonimmigrant visa applications. 8 U.S.C. 1375a(a)(5)(A)(i). In addition, consular officers must provide a copy of the information pamphlet to all applicants for a K nonimmigrant visa during their interview for the visa. 8 U.S.C. 1375a(b)(1)(B).

The law also requires that the pamphlet be distributed to each alien seeking to obtain lawful permanent resident status. For each alien applying for a family-based immigrant visa outside the United States or adjustment of status (on Form I-485, Application to register Permanent Residence or Adjust Status) within the United States, a copy of the information pamphlet must be provided at such alien's consular or adjustment of status interview. 8 U.S.C. 1375a(b)(2). The information pamphlet must be made available at all consular offices abroad, posted on the Web sites of the Department of State, and Department of Homeland Security, and all consular posts processing K nonimmigrant visa applications, and made available to IMBs, government agencies, and nongovernmental advocacy organizations. 8 U.S.C. 1375a(a)(5)(B), (C) and (D).

II. Solicitation of Comments on the Information Pamphlet

U.S. Citizenship and Immigration Services (USCIS) is developing the information pamphlet required by IMBRA and is inviting the public to submit comments on all aspects of the pamphlet before its issuance and distribution. Comments that will provide the most assistance to USCIS will reference a specific portion of the pamphlet, explain the reason for any recommended change, and include data, information, or authority that supports the recommended change.

Instructions: All submissions received must include the agency name and DHS Docket No. USCIS-2007-0061 for this Notice. All comments received will be posted without change to http://www.regulations.gov, including any personal information provided.

Docket: For access to the docket to read background documents or comments received, go to http://www.regulations.gov. Submitted comments may also be inspected at the Regulatory Management Division, U.S. Citizenship and Immigration Services, Department of Homeland Security, 111 Massachusetts Avenue, NW., Suite 3008, Washington, DC 20529.

Dated: July 14, 2008.
Jonathan Scharfen,
Acting Director, U.S. Citizenship and Immigration Services.

BILLING CODE 9111-97-P

[FR Doc. E8-16521 Filed 7-21-08; 8:45 am]

BILLING CODE 9111-97-C